DEPARTMENT OF VETERANS AFFAIRS

Commission on Care

ACTION: Notice.

SUMMARY: The Commission on Care submitted to the President, through the Secretary of Veterans Affairs, its interim report as required under Section 202 of the Veterans Access, Choice, and Accountability Act of 2014. This Notice announces the public release of the report, entitled “Commission on Care Interim Report”, on the Commission on Care Web site.

ADDRESSES: The complete copy of the “Commission on Care Interim Report” is available on the following Web site: https://commissiononcare.sites.usa.gov/.

SUPPLEMENTARY INFORMATION: The purpose of the Commission on Care, as described in section 202 of the Veterans Access, Choice, and Accountability Act of 2014, is to examine the access of veterans to health care from the Department of Veterans Affairs and strategically examine how best to organize the Veterans Health Administration, locate health care resources, and deliver health care to veterans during the next 20 years.

Dated: December 7, 2015.
Sharon Gilles,
Designated Federal Officer, Commission on Care.

[FR Doc. 2015-31223 Filed 12-10-15; 8:45 am]

BILLING CODE 8320-01-P